DEPARTMENT OF STATE

[Public Notice: 9463]

30-Day Notice of Proposed Information Collection: INTERNational Connections

ACTION: Notice of request for public comment and submission to OMB of proposed collection of information.

SUMMARY: The Department of State has submitted the information collection described below to the Office of Management and Budget (OMB) for approval. In accordance with the Paperwork Reduction Act of 1995 we are requesting comments on this collection from all interested individuals and organizations. The purpose of this Notice is to allow 30 days for public comment.

DATES: Submit comments directly to the Office of Management and Budget (OMB) up to April 7, 2016.

ADDRESSES: Direct comments to the Department of State Desk Officer in the Office of Information and Regulatory Affairs at the Office of Management and Budget (OMB). You may submit comments by the following methods:

• Email: oira_submission@omb.eop.gov. You must include the DS form number, information collection title, and the OMB control number in the subject line of your message.

• Fax: 202-395-5806. Attention: Desk Officer for Department of State.

FOR FURTHER INFORMATION CONTACT: Direct requests for additional information regarding the collection listed in this notice, including requests for copies of the proposed collection instrument and supporting documents, to Heather Rudow, 2401 E Street NW., Washington, DC 20520, who may be reached on 202-261-8953 or at rudowh@state.gov.

SUPPLEMENTARY INFORMATION:

• Title of Information Collection: INTERNational Connections.

• OMB Control Number: 1405-0190.

• Type of Request: Revision of a Currently Approved Collection.

• Originating Office: Bureau of Human Resources, Office of Recruitment, Examination and Employment (HR/REE).

• Form Number: DS-5103.

• Respondents: Current participants and alumni of the U.S. Department of State's student programs, including internships, Pickerings, Rangels, Pathways, etc. and Department Employees.

• Estimated Number of Respondents: 1,000.

• Estimated Number of Responses: 1,000.

• Average Time Per Response: 15 minutes.

• Total Estimated Burden Time: 250 hours.

• Frequency: On occasion.

• Obligation to Respond: Voluntary.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of Proposed Collection

The Department's student internship programs provide a key source of potential prospects who have an interest in, and are qualified, to become future Department employees. Naturally, HR/REE wants to strengthen and maintain its connections to this group, fostering and mentoring a pool of prospects from which to obtain successful recruits.

In June 2008, HR/REE surveyed over 3,500 former interns who served from 2005 through spring 2008. The intern alumni were queried as to their motivation in seeking an internship, whether or not they had pursued a career with either the Foreign Service or Civil Service, and what their recommendations would be for the best ways for the Department to maintain contact after the conclusion of their internships. Intern alumni endorse continued contact with Department representatives mainly through electronic means and Web site reminders of career opportunities.

In an effort to address these findings and provide viable solutions to improving student engagement prior to, during and following an internship, the Department developed an intern engagement strategy that will ultimately result in a measurable conversion of interns into Department hires for the Foreign or Civil Service. The foundation of this strategy is INTERNational Connections, a web-based career networking site for current and former interns as well as Department employees that collects pertinent information about them, their experiences and their career goals.

Methodology

Users register online at https://internconnect.careers.state.gov and create a profile that includes: full name, program status, names of colleges attended, major/minor, where the user is from, current post, year graduated, career goals and interests, personal interests, career path, bureau, job title, professional experience and languages the user can speak. The respondents are current and former interns, as well as Department employees.

Dated: February 29, 2016.
Derwood Staeben,
Executive Director, HR/REE, Department of State.

[FR Doc. 2016-05180 Filed 3-7-16; 8:45 am]

BILLING CODE 4710-15-P